DEPARTMENT OF TRANSPORTATION

Federal Aviation Administration

Notice of Meeting of the National Parks Overflights Advisory Group

ACTION: Notice of meeting.

SUMMARY: The Federal Aviation Administration (FAA) and the National Park Service (NPS), in accordance with the National Parks Air Tour Management Act of 2000, announce the next meeting of the National Parks Overflights Advisory Group (NPOAG). This notification provides the date, location, and agenda for the meeting.

DATES: Date and Location: The NPOAG will meet on January 29-30, 2020. The meeting will take place in the Orangewood 2 Conference Room at the Clarion Hotel, 616 W Convention Way, Anaheim, CA 92802. The meeting will be held from 1:00 p.m. to 4:00 p.m. on January 29 and from 8:30 a.m. to 4:00 p.m. on January 30, 2020. This NPOAG meeting will be open to the public. Because seating is limited, members of the public wishing to attend will need to contact the person listed under FOR FURTHER INFORMATION CONTACT by January 10, 2020 to ensure sufficient meeting space is available to accommodate all attendees.

FOR FURTHER INFORMATION CONTACT: Keith Lusk, AWP-1SP, Special Programs Staff, Federal Aviation Administration, Western-Pacific Region Headquarters, 777 South Aviation Boulevard, Suite 150, El Segundo, CA 92045, telephone: (424) 405-7017, email: Keith.Lusk@faa.gov.

SUPPLEMENTARY INFORMATION:

Background

The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairperson of the advisory group.

The duties of the NPOAG include providing advice, information, and recommendations to the FAA Administrator and the NPS Director on; implementation of Public Law 106-181; quiet aircraft technology; other measures that might accommodate interests to visitors of national parks; and at the request of the Administrator and the Director, on safety, environmental, and other issues related to commercial air tour operations over national parks or tribal lands.

Agenda for the January 29-30, 2020 NPOAG Meeting

The agenda for the meeting will include, but is not limited to, an update on ongoing park specific air tour planning projects and commercial air tour reporting.

Attendance at the Meeting and Submission of Written Comments

Although this is not a public meeting, interested persons may attend. Because seating is limited, if you plan to attend please contact the person listed under FOR FURTHER INFORMATION CONTACT so that meeting space may be made to accommodate all attendees. Written comments regarding the meeting will be accepted directly from attendees or may be sent to the person listed under FOR FURTHER INFORMATION CONTACT.

Record of the Meeting

If you cannot attend the NPOAG meeting, a summary record of the meeting will be made available under the NPOAG section of the FAA ATMP website at: http://www.faa.gov/about/office_org/headquarters_offices/arc/programs/air_tour_management_plan/parks_overflights_group/minutes.cfm or through the Special Programs Staff, Western-Pacific Region, 777 South Aviation Boulevard, Suite 150, El Segundo, CA 90245, telephone: (424) 405-7017.

Issued in El Segundo, CA, on December 18, 2019.
Keith Lusk,
Program Manager, Special Programs Staff, Western-Pacific Region.

[FR Doc. 2019-27838 Filed 12-23-19; 8:45 am]

BILLING CODE 4910-13-P